DEPARTMENT OF HEALTH AND HUMAN SERVICES

National Institutes of Health

National Library of Medicine; Amended; Notice of Meeting

Notice is hereby given of a change in the meeting of the Board of Regents of the National Library of Medicine, May 8, 2018, 9:00 a.m. to May 9, 2018, 12:00 p.m., National Library of Medicine, Building 38, 2nd Floor, The Donald A.B. Lindberg Room, 8600 Rockville Pike, Bethesda, MD, 20892 which was published in the Federal Register on March 7, 2018, 83 FR 45 Page 9746.

The meeting will be open to the public on May 9, 2018 from 9:00 a.m. to 10:30 a.m. and will then be closed from 10:30 a.m. to 12:00 p.m., to review intramural programs and projects. The meeting is partially closed to the public.

Dated: March 30, 2018.
Michelle D. Trout,
Program Analyst, Office of Federal Advisory Committee Policy.

[FR Doc. 2018-06898 Filed 4-4-18; 8:45 am]

BILLING CODE 4140-01-P